DEPARTMENT OF AGRICULTURE

Food Safety and Inspection Service

[Docket No. FSIS-2017-0003]

Changes to the Inspection Coverage in Official Establishments That Slaughter Fish of the Order Siluriformes

AGENCY: Food Safety and Inspection Service, USDA.

ACTION: Notice and request for comments; extension of comment period.

SUMMARY: The Food Safety and Inspection Service (FSIS) is extending until July 17, 2017, the comment period for its plan to adjust inspection coverage at official establishments that slaughter fish of the order Siluriformes, which include catfish, from all hours of operation to once per production shift.

DATES: Submit comments on or before July 17, 2017.

ADDRESSES: FSIS invites interested persons to submit comments relevant to adjusting inspection coverage as discussed and outlined in this notice. Only comments addressing the scope of this notice will be considered. Comments may be submitted by one of the following methods:

Federal eRulemaking Portal: This Web site provides the ability to type short comments directly into the comment field on this Web page or attach a file for lengthier comments. Go to http://www.regulations.gov/. Follow the on-line instructions at that site for submitting comments.

Mail, CD-ROMs: Send to Docket Clerk, U.S. Department of Agriculture, Food Safety and Inspection Service, Patriots Plaza 3, 1400 Independence Avenue SW., Mailstop 3782, Room 8-163B, Washington, DC 20250-3700.

Hand- or courier-delivered submittals: Deliver to Patriots Plaza 3, 355 E. Street SW., Room 8-163A, Washington, DC 20250-3700.

Instructions: All items submitted by mail or electronic mail must include the Agency name and docket number FSIS-2017-0003. Comments received in response to this docket will be made available for public inspection and posted without change, including any personal information, to http://www.regulations.gov.

Docket: For access to background documents or to comments received, go to the FSIS Docket Room at Patriots Plaza 3, 355 E. Street SW., Room 164-A, Washington, DC 20250-3700 between 8:00 a.m. and 4:30 p.m., Monday through Friday.

FOR FURTHER INFORMATION CONTACT: Rachel Edelstein, Deputy Assistant Administrator, Office of Policy and Program Development; Telephone: (202) 205-0495, or by Fax: (202) 720-2025.

Background

On May 17, 2017, FSIS published a notice announcing that it will be adjusting its inspection coverage at official Siluriformes fish slaughter establishments, starting September 1, 2017, the date of full enforcement of the regulatory requirements for fish, from all hours of operation to once per production shift. This decision is based on the Agency's experience inspecting fish slaughter establishments since implementing the mandatory inspection program on March 1, 2016. FSIS requested comment on this decision on or before June 16, 2017.

A consumer advocacy organization requested that FSIS extend the comment period by 30 days, while it researches the implications of the decision, so as to make informed comments. FSIS agrees to extend the comment period. The comment period will now end on July 17, 2017.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442 .

Email: program.intake@usda.gov.

Persons with disabilities who require alternative means for communication (Braille, large print, audiotape, etc.) should contact USDA's TARGET Center at (202) 720-2600 (voice and TDD).

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

Done at Washington, DC, on June 13, 2017.
Alfred V. Almanza,
Administrator.

[FR Doc. 2017-12556 Filed 6-15-17; 8:45 am]

BILLING CODE 3410-DM-P